LEGAL SERVICES CORPORATION

Sunshine Act Meeting

Time and Date: The Board of Directors of the Legal Services Corporation will meet by telephone on June 15, 2010. The meeting will begin at 12 p.m., e.s.t., and continue until conclusion of the Board's agenda.

Location: Legal Services Corporation, 3333 K Street, NW., 3rd Floor Conference Center, Washington, DC, 20007.

Public Observation: For all meetings and portions thereof open to public observation, members of the public that wish to listen to the proceedings may do so by following the telephone call-in directions given below. You are asked to keep your telephone muted to eliminate background noises. From time to time the Chairman may solicit comments from the public.

Call-In Directions For Open Session(s): • Call toll-free number: 1- (866) 451-4981;

• When prompted, enter the following numeric pass code: 5907707348;

• When connected to the call, please “Mute” your telephone immediately.

Status of Meeting: Open.

Matters To Be Considered

Open Session

1. Approval of agenda.

2. Consider and act on revisions to the LSC Accounting Guide for LSC Recipients.

3. Public comment.

4. Consider and act on other business.

5. Consider and act on adjournment of meeting.

Contact Person For Information: Katherine Ward, Executive Assistant to the Vice President for Legal Affairs, at (202) 295-1500. Questions may be sent by electronic mail to FR_NOTICE_QUESTIONS@lsc.gov.

Special Needs: Upon request, meeting notices will be made available in alternate formats to accommodate visual and hearing impairments. Individuals who have a disability and need an accommodation to attend the meeting may notify Katherine Ward at (202) 295-1500 or FR_NOTICE_QUESTIONS@lsc.gov.

Dated: June 8, 2010.
Patricia D. Batie,
Corporate Secretary.

[FR Doc. 2010-14171 Filed 6-9-10; 4:15 pm]

BILLING CODE 7050-01-P